ENVIRONMENTAL PROTECTION AGENCY

[EPA-HQ-OPP-2009-1017; FRL-9336-3]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a November 23, 2011, Federal Register Notice of Receipt of Requests from the registrants listed in Table 2 of Unit II. to voluntarily cancel these product registrations. In the November 23, 2011, notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective February 15, 2012.

FOR FURTHER INFORMATION CONTACT: Jolene Trujillo, Pesticide Re-evaluation Division (7508P), Office of Pesticide Programs, Environmental Protection Agency, 1200 Pennsylvania Ave. NW., Washington, DC 20460-0001; telephone number: (703) 347-0103; fax number: (703) 308-8090; email address: trujillo.jolene@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 28 products registered under FIFRA section 3. These registrations are listed in sequence by registration number in Table 1 of this unit.

Table 1—Product Cancellations
EPA registration No. | Product name | Chemical name
000239-02626 | Ortho Home Defense Hi-Power Brand Indoor Insect Fogger | MGK 264, Pyrethrins, Permethrin.
000499-00504 | TC 235 Cold Fogger Concentrate | MGK 264,Pyrethrins, Piperonyl butoxide, 2, 4-Dodecadienoic acid, 3,7,11-trimethyl-, ethyl ester, (S-(E,E)).
000655-00308 | Prentox Pyrethrum Extract “25” | Pyrethrins.
000769-00948 | Pratt Cygon 2-E Systemic Insecticide | Dimethoate.
002724-00338 | Zoecon RF-275 | MGK 264, Piperonyl butoxide, Pyrethrins, S-Methoprene.
002724-00607 | Farnam Pyrethrin Concentrate | Piperonyl butoxide, Pyrethrins.
002724-00706 | Elite Flea and Tick Dip | MGK 264, Piperonyl butoxide, Pyrethrins.
002724-00707 | Elite Extra-Strength Flea and Tick Dip | MGK 264, Piperonyl butoxide, Pyrethrins.
005887-00041 | Black Leaf Tri-Basic Bordeaux Powder | Basic copper sulfate.
010807-00446 | Purge II | Pyrethrins, Piperonyl butoxide.
010807-00448 | Country Vet Flea & Tick Fogger with Growth Inhibitor | MGK 264, Pyrethrins, Pyriproxyfen, Permethrin.
013283-00025 | Rainbow Flying & Crawling Bug Killer II | Bioallethrin.
028293-00212 | Unicorn Ear Miticide III | Pyrethrins, Piperonyl butoxide.
028293-00348 | Unicorn Ear Miticide IV | Pyrethrins, Piperonyl butoxide.
040849-00046 | Enforcer Four Hour Fogger V | Phenothrin, Tetramethrin.
056156-00001 | X-100 Natural Seal Wood Preservative | 2-(Thiocyanomethylthio) benzothiazole, Methylene bis (thiocyanate).
065092-00001 | ZE LIN Chen Chalk | Tralomethrin.
074965-00002 | Comet With Bleach Disinfectant Cleanser | Sodium dichloroisocyanurate dihydrate.
075015-00001 | Dead-Fast Insecticide Chalk | Tralomethrin.
080697-00009 | Chlorpyrifos Technical | Chlorpyrifos.
CA010009 | Supracide 25W | Methidathion.
CO080005 | Dicofol 4E | Dicofol.
FL760014 | Cythion Insecticide The Premium Grade Malathion | Malathion.
ID070002 | Dicofol 4E | Dicofol.
ID990018 | Kelthane MF Agricultural Miticide | Dicofol.
ME960001 | Imidan 2.5 EC | Phosmet.
SD040004 | Princep Caliber 90 | Simazine.
UT070005 | Dicofol 4E | Dicofol.

Table 2 of this unit includes the names and addresses of record for all registrants of the products in Table 1 of this unit, in sequence by EPA company number. This number corresponds to the first part of the EPA registration numbers of the products listed in Table 1 of this unit.

Table 2—Registrants of Canceled Products
EPA company No. | Company name and address
239 | The Scotts Company, P.O. Box 190, Marysville, OH 43040.
499 | Whitmire Micro-Gen Research Laboratories, Inc., Agent: BASF Corp., 3568 Tree Court Industrial Blvd., St. Louis, MO 63122-6682.
655 | Prentiss, Inc., Agent: Pyxis Regulatory Consulting, Inc., 4110 136th St. NW., Gig Harbor, WA 98332.
769 | Value Gardens Supply, LLC, P.O. Box 585, Saint Joseph, MO 64502.
2724 | Wellmark International, 1501 E. Woodfield Rd., Suite 200, West, Schaumburg, IL 60173.
5887 | Value Gardens Supply, LLC, d/b/a Garden Value Supply, P.O. Box 585, Saint Joseph, MO 64502.
10807 | Amrep, Inc., 990 Industrial Park Drive, Marietta, GA 30062.
13283 | Rainbow Technology Corporation, Agent: RegWest Company LLC, 8203 West 20th St., Suite A, Greeley, CO 80634-4696.
28293 | Phaeton Corporation, Agent Registrations by Design, Inc., P.O. Box 1019, Salem, VA 24153.
40849 | ZEP Commercial Sales & Service, Agent: Connie Welch and Associates, 4196 Merchant Plaza #344, Lake Ridge, VA 22192.
56156 | American Building Restoration Products, Inc., 9720 South 60th Street, Franklin, WI 53132.
65092 | Ze Lin Chen, 137 Casuda Canyon Dr., #A, Monterey Park, CA 91754.
74965 | Spic and Span, d/b/a Prestige Brands International, 90 North Broadway, Irvington, NY 10533.
75015 | Bernard I. Segal, 2406 Vallecitos, La Jolla, CA 92037.
80697 | Zhejian Tide Cropscience Co., LTD, Agent: Tide International USA, Inc., 21 Hubble, Irvine, CA 92618.
CA010009; ME960001 | Gowan Company, P.O. Box 5569, Yuma, AZ 85366-8844.
CO080005; ID070002; UT070005 | Makhteshim-Agan of North America, Inc., 4515 Falls of Neuse Rd., Suite 300, Raleigh, NC 27069.
FL760014 | Lee County Mosquito Control District, P.O. Box 60005, Fort Myers, FL 33906.
ID990018 | Dow Agrosciences, LLC, 9330 Zionsville Rd., 308/2E, Indianapolis, IN 46268-1054.
SD040004 | Syngenta Crop Protection, LLC, d/b/a Syngenta, Crop. Protection, Inc., P.O. Box 18300, Greensboro, NC 27149-8300.

III. Summary of Public Comments Received and Agency Response to Comments

During the public comment period provided, EPA received no comments in response to the November 23, 2011, Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is February 15, 2012. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of November 23, 2011 (76 FR 72405) (FRL-9327-2). The comment period closed on December 21, 2011.

VI. Provisions for Disposition of Existing Stocks

Existing stocks are those stocks of registered pesticide products which are currently in the United States and which were packaged, labeled, and released for shipment prior to the effective date of the cancellation action. The existing stocks provisions for the products subject to this order are as follows:

A. Registrations Listed in Table 1 of Unit II. Except EPA Reg. Nos. 065092-00001 and 075015-00001

EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. EPA Registration Nos. 065092-00001 and 075015-0001 Listed in Table 1 of Unit II.

The cancellation of these products will be effective December 15, 2014. Thereafter, registrants will be prohibited from selling or distributing these two pesticide products, except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: February 2, 2012.
Richard P. Keigwin, Jr.,
Director, Pesticide Re-evaluation Division, Office of Pesticide Programs.

[FR Doc. 2012-2982 Filed 2-14-12; 8:45 am]

BILLING CODE 6560-50-P